Title 3—

The President

Proclamation 9016 of September 13, 2013

National Hispanic Heritage Month, 2013

By the President of the United States of America

A Proclamation

From the earliest days of our Republic, Hispanic Americans have written crucial chapters in our national story. Hispanics have honorably defended our country in war and built prosperity during times of peace. They run successful businesses, teach our next generation of leaders, and pioneer scientific and technological breakthroughs. This month, America acknowledges these vital contributions and celebrates our Hispanic heritage.

Hispanic Americans represent an array of distinct and vibrant cultures, each of which enriches communities in valuable ways. Just as America embraces a rich blend of backgrounds, those who journey to our shores embrace America. Sharing the dream of equality and boundless opportunity, many Hispanics have marched for social justice and helped advance America's journey toward a more perfect Union. Last year, I was proud to establish the César E. Chávez National Monument in honor of an American hero, a man who reminded us that every life has value, that together, those who recognize their common humanity have the power to shape a better world.

As César Chávez's example teaches us, we must never scale back our dreams. My Administration remains committed to building a rising, thriving middle class, a middle class accessible to the Hispanic community and to all Americans. As we continue to implement the Affordable Care Act, more than 10 million uninsured Latinos will gain access to coverage. To reduce health disparities, my Administration will work to educate, engage, and enrolle Hispanic Americans in the Health Insurance Marketplace.

Last year, we lifted the shadow of deportation off young people who are American in every way but on paper. Today, I am as determined as ever to pass commonsense immigration reform—reform that helps American workers get a fairer deal, adds more than one trillion dollars to our economy, and provides a pathway to earned citizenship. A bipartisan bill consistent with these principles has already passed the Senate, and a growing coalition of Republicans and Democrats is calling for action.

Whether our ancestors crossed the Atlantic in 1790 or the Rio Grande in 1970, Americans are bound by a set of common values—a love of liberty and justice, the belief that a better life should await anyone willing to work for it. As we celebrate the unique influences of Hispanic cultures during National Hispanic Heritage Month, let us also rededicate ourselves to realizing our shared aspirations.

To honor the achievements of Hispanics in America, the Congress by Public Law 100-402, as amended, has authorized and requested the President to issue annually a proclamation designating September 15 through October 15 as “National Hispanic Heritage Month.”

NOW, THEREFORE, I, BARACK OBAMA, President of the United States of America, do hereby proclaim September 15 through October 15, 2013, as National Hispanic Heritage Month. I call upon public officials, educators, librarians, and all Americans to observe this month with appropriate ceremonies, activities, and programs.

IN WITNESS WHEREOF, I have hereunto set my hand this thirteenth day of September, in the year of our Lord two thousand thirteen, and of the Independence of the United States of America the two hundred and thirty-eighth.

[FR Doc. 2013-22885

Filed 9-17-13; 11:15 am]

Billing code 3295-F3